DEPARTMENT OF ENERGY

Federal Energy Regulatory Commission

Combined Notice of Filings

January 28, 2008.

Take notice that the Commission has received the following Natural Gas Pipeline Rate and Refund Report filings:

Docket Numbers: CP05-119-003.

Applicants: Cameron Interstate Pipeline LLC.

Description: Cameron submits an abbreviated application for a limited amendment to Cameron's Section 7 authorizations.

Filed Date: 01/15/2008.

Accession Number: 20080118-0174.

Comment Date: 5 p.m. Eastern Time on Monday, February 4, 2008.

Docket Numbers: CP06-275-001.

Applicants: Equitrans, L.P.

Description: Equitrans, L.P., submits Original Sheet No. 4A, et al., to its FERC Gas Tariff, Original Volume No. 1, to be effective March 1, 2008.

Filed Date: 01/18/2008.

Accession Number: 20080124-0379.

Comment Date: 5 p.m. Eastern Time on Monday, February 4, 2008.

Docket Numbers: RP96-312-176.

Applicants: Tennessee Gas Pipeline Company.

Description: Tennessee Gas Pipeline Company submits a Gas Transportation Agreement and ENI Petroleum U.S. LLC pursuant to Tennessee Rate Schedule Agreement and a Firm Transportation Negotiated Rate Letter Agreement dated 12/31/07.

Filed Date: 01/23/2008.

Accession Number: 20080124-0377.

Comment Date: 5 p.m. Eastern Time on Monday, February 4, 2008.

Docket Numbers: RP96-312-177.

Applicants: Tennessee Gas Pipeline Company.

Description: Tennessee Gas Pipeline Co. submits Original Sheet 413B to FERC Gas Tariff, Fifth Revised Volume 1, to be effective 1/20/08.

Filed Date: 01/24/2008.

Accession Number: 20080125-0202.

Comment Date: 5 p.m. Eastern Time on Tuesday, February 5, 2008.

Docket Numbers: RP99-176-151.

Applicants: Natural Gas Pipeline Co. of America.

Description: Natural Gas Pipeline Company of America submits Transportation Rate Schedule FTS Agreements with negotiated rate exhibits between Enbridge Marketing (US) LP.

Filed Date: 01/25/2008.

Accession Number: 20080128-0015.

Comment Date: 5 p.m. Eastern Time on Wednesday, February 6, 2008.

Docket Numbers: RP06-200-042.

Applicants: Rockies Express Pipeline LLC.

Description: Rockies Express Pipeline LLC submits Second Revised Sheet 9H et al. to FERC Gas Tariff, Second Revised Volume 1, to be effective 1/25/08.

Filed Date: 01/24/2008.

Accession Number: 20080125-0203.

Comment Date: 5 p.m. Eastern Time on Tuesday, February 5, 2008.

Docket Numbers: RP07-99-003.

Applicants: ANR Pipeline Company.

Description: ANR Pipeline Company submits Substitute Seventeenth Sheet 570 to FERC Gas Tariff, Original Volume 2, to be effective 1/1/08.

Filed Date: 01/24/2008.

Accession Number: 20080125-0204.

Comment Date: 5 p.m. Eastern Time on Tuesday, February 5, 2008.

Docket Numbers: RP08-97-003.

Applicants: ANR Pipeline Company.

Description: ANR Pipeline Co. submits Substitute Eighteenth Revised Sheet 570 to FERC Gas Tariff, Original Volume 2, to be effective 1/1/08.

Filed Date: 01/24/2008.

Accession Number: 20080125-0205.

Comment Date: 5 p.m. Eastern Time on Tuesday, February 5, 2008.

Docket Numbers: RP08-128-001.

Applicants: Northern Border Pipeline Company.

Description: Northern Border Pipeline Company submits Substitute Twelfth Revised Sheet 300 and Substitute Tenth Revised Sheet 300A to FERC Gas Tariff, First Revised Volume 1.

Filed Date: 01/22/2008.

Accession Number: 20080124-0376.

Comment Date: 5 p.m. Eastern Time on Monday, February 4, 2008.

Docket Numbers: RP08-139-001.

Applicants: Iroquois Gas Transmission System, L.P.

Description: Supplement to Filing of Iroquois Gas Transmission System, L.P.

Filed Date: 01/22/2008.

Accession Number: 20080122-5008.

Comment Date: 5 p.m. Eastern Time on Monday, February 4, 2008.

Docket Numbers: RP08-165-000.

Applicants: Texas Gas Transmission, LLC.

Description: Texas Gas Transmission, LLC submits Second Revised Sheet 402 et al. to FERC Gas Tariff, Second Revised Volume 1, to be effective 3/1/08.

Filed Date: 01/17/2008.

Accession Number: 20080118-0173.

Comment Date: 5 p.m. Eastern Time on Monday, February 4, 2008.

Docket Numbers: RP08-166-000.

Applicants: Northern Natural Gas Company.

Description: Northern Natural Gas submits available points re Matagorda Offshore Pipeline System.

Filed Date: 01/17/2008.

Accession Number: 20080118-0159.

Comment Date: 5 p.m. Eastern Time on Monday, February 4, 2008.

Docket Numbers: RP08-170-000.

Applicants: National Fuel Gas Supply Corporation.

Description: Natural Fuel Gas Supply Corporation submits Second Revised Sheet 788 et al. to FERC Gas Tariff, First Revised Volume 2, to be effective 11/1/07.

Filed Date: 01/23/2008.

Accession Number: 20080124-0378.

Comment Date: 5 p.m. Eastern Time on Monday, February 4, 2008.

Docket Numbers: RP08-171-000.

Applicants: Alliance Pipeline LP.

Description: Alliance Pipeline, LP submits its Third Revised Sheet 279 to its FERC Gas Tariff, Original Volume 1, to be effective 3/1/08.

Filed Date: 01/24/2008.

Accession Number: 20080125-0147.

Comment Date: 5 p.m. Eastern Time on Tuesday, February 5, 2008.

Docket Numbers: RP08-172-000.

Applicants: Trailblazer Pipeline Company LLC.

Description: Trailblazer Pipeline Company LLC submits report on refund of penalty revenues under RP08-172.

Filed Date: 01/25/2008.

Accession Number: 20080128-0014.

Comment Date: 5 p.m. Eastern Time on Wednesday, February 6, 2008.

Docket Numbers: RP08-173-000.

Applicants: Transcontinental Gas Pipe Line Corp.

Description: Transcontinental Gas Pipe Line Corp submits Fortieth Revised Sheet 28 to FERC Gas Tariff, Third Revised Volume 1, to be effective 2/1/08.

Filed Date: 01/25/2008.

Accession Number: 20080128-0116.

Comment Date: 5 p.m. Eastern Time on Wednesday, February 6, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Kimberly D. Bose,
Secretary.

[FR Doc. E8-2440 Filed 2-8-08; 8:45 am]

BILLING CODE 6717-01-P